DEPARTMENT OF THE INTERIOR

Minerals Management Service

Notice of Availability of the Programmatic Environmental Assessment for Exploration Activities in the Eastern Sale Area; Eastern Planning Area, Gulf of Mexico Outer Continental Shelf

AGENCY: Minerals Management Service, Interior.

ACTION: Notice of availability of a programmatic environmental assessment.

SUMMARY: The Minerals Management Service (MMS) has prepared a programmatic environmental assessment (PEA) for exploration drilling and associated activities in the current sale area of the Eastern Planning Area (EPA) on the Gulf of Mexico (GOM) outer continental shelf (OCS). The MMS published notice in the Federal Register on June 3, 2002, that a PEA was in preparation.

FOR FURTHER INFORMATION CONTACT: Minerals Management Service, Gulf of Mexico OCS Region, 1201 Elmwood Park Boulevard, New Orleans, Louisiana 70123-2394, Dr. Thomas W. Bjerstedt, telephone (504) 736-5743.

SUPPLEMENTARY INFORMATION: The PEA considered the area-wide environmental impacts of exploration drilling in the current sale area of the Eastern Planning Area. The PEA implements the tiering process for National Environmental Policy Act (NEPA) documentation outlined in 40 CFR 1502.20, which encourages agencies to tier environmental documents to eliminate repetitive discussions of the same issue. The site-specific EA's that MMS prepares for an operator's Exploration Plan in this area can be tiered from the PEA and the EA analyses can focus on the specific activities proposed. The PEA itself tiers from the Final EIS for Lease Sale 181 (MMS 2001-051).

Public Comments: The June 3, 2002, Federal Register notice solicited comments on any new information or issues that should be considered in the PEA. No comments pertaining to this notice were received by MMS. On July 12, 2002, MMS sent letters to the Governors of Louisiana, Alabama, Mississippi, and Florida. This letter informed them that a PEA was in preparation that considered area-wide resources and impacts from exploratory drilling in the EPA sale area, and solicited new information or issues for consideration in the PEA. The State of Florida replied on August 26, 2002, stating a number of issues for consideration in the PEA. The State of Alabama replied on August 8, 2002, stating that the State's concerns were expressed in earlier letters to the GOM Regional Director dated September 26, 2001, and May 28, 2002, regarding the 2002-2007 Central and Western Planning Area Multisale Draft EIS (MMS-2002-056), and the Proposed Notice of Sale for the Eastern GOM Lease Sale 181, respectively. The State was concerned about visual impacts presented by OCS drilling or production structures less than 15 miles offshore Alabama's coastline and about the potential for mercury contamination in association with OCS platforms. The States of Louisiana and Mississippi did not reply to the GOM Regional Director's July 12, 2002, letter. The MMS considered or addressed all of the issues provided by the States in the preparation of the PEA.

Dated: March 20, 2003.
Chris C. Oynes,
Regional Director, Gulf of Mexico OCS Region.

[FR Doc. 03-9331 Filed 4-15-03; 8:45 am]

BILLING CODE 4310-MR-P